COMMISSION ON CIVIL RIGHTS

Agenda and Notice of Public Meeting of the Oregon Advisory Committee

Notice is hereby given, pursuant to the provisions of the rules and regulations of the U.S. Commission on Civil Rights, that a meeting of the Oregon Advisory Committee to the Commission will convene at 1 p.m. and adjourn at 5 p.m. on March 23, 2000, at the Sweetbrier Inn, Garden Room, 7125 SW Nyberg Road, Tualatin, Oregon 97062. The purpose of the meeting is to develop a plan for constructing a nonthreatening generic complaint process for law enforcement agencies.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, February 28, 2000.
Carol-Lee Hurley.
Chief, Regional Programs Coordination Unit.

[FR Doc. 00-5423 Filed 3-6-00; 8:45 am]

BILLING CODE 6335-01-P